NATIONAL SCIENCE FOUNDATION

STEM Education Advisory Panel; Notice of Meeting

In accordance with the Federal Advisory Committee Act (Pub., L. 92-463, as amended), the National Science Foundation (NSF) announces the following meeting:

NAME AND COMMITTEE CODE: STEM Education Advisory Panel (#2624).

DATE AND TIME: April 27, 2022; 11:00 a.m.-4:30 p.m. EST.

PLACE: National Science Foundation, Directorate for Education and Human Resources, 2415 Eisenhower Avenue, Alexandria, VA 22314; Virtual Meeting. No onsite Participants.

All visitors must register at least 48 hours before the meeting. To attend this virtual meeting in listen-in only mode, send your request to stemedadvisory@nsf.gov. The final meeting agenda will be posted to: https://www.nsf.gov/ehr/advisory.jsp.

TYPE OF MEETING: Open.

CONTACT PERSON: Keaven Stevenson, Directorate Administrative Coordinator, Room C11001, National Science Foundation, 2415 Eisenhower Avenue, Alexandria, VA 22314 Contact Information: 703-292-8600/kstevens@nsf.gov.

SUMMARY OF MINUTES: Agenda and Minutes will be available on the STEM Education Advisory Panel website at https://nsf.gov/ehr/STEMEdAdvisory.jsp or can be obtained from Jolene Jesse, National Science Foundation, 2415 Eisenhower Avenue, Room C11000, Alexandria, VA 22314; (703) 292-8600; stemedadvisory@nsf.gov.

PURPOSE OF MEETING: To provide advice to the Committee on Science, Technology, Engineering, and Mathematics Education (CoSTEM) and to assess CoSTEM's progress.

Agenda

• Welcoming Remarks

• Reflections on the Stem Strategic Plan

• Update—Fc-Stem Interagency Working Groups

• Meeting With Costem Leadership

• Panel Discussion

• Closing Remarks

Dated: March 9, 2022.
Crystal Robinson,
Committee Management Officer.

[FR Doc. 2022-05325 Filed 3-11-22; 8:45 am]

BILLING CODE 7555-01-P